DEPARTMENT OF LABOR

Employment and Training Administration

[TA-W-64,871]

Mars Petcare US, Inc., Vernon, CA; Notice of Termination of Investigation

Pursuant to Section 221 of the Trade Act of 1974, as amended, an investigation was initiated on January 13, 2009 in response to a worker petition filed by a State Workforce office on behalf of workers of Mars Petcare US, Inc., Vernon, California.

The petitioner has requested that the petition be withdrawn. Consequently, the investigation has been terminated.

Signed at Washington, DC, this 4th day of March 2009.
Richard Church,
Certifying Officer, Division of Trade Adjustment Assistance.

[FR Doc. E9-5182 Filed 3-10-09; 8:45 am]

BILLING CODE 4510-FN-P